SMALL BUSINESS ADMINISTRATION

Revocation of License of Small Business Investment Company

Pursuant to the authority granted to the United States Small Business Administration by the Final Order of the United States District Court for the Southern District of Florida, Miami, Division, dated August 30, 2005, the United States Small Business Administration hereby revokes the license of Capital International SBIC, L.P., a Delaware limited partnership, to function as a small business investment company under the Small Business Investment Company License No. 04/04-0275 issued to Capital International SBIC, L.P. on December 4, 1998 and said license is hereby declared null and void as of November 30, 2003.

Dated: March 7, 2006.
United States Small Business Administration.
Jaime Guzman-Fournier,
Associate Administrator for Investment.

[FR Doc. 06-3037 Filed 3-27-06; 8:45 am]

BILLING CODE 8025-01-M